DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Comment Period for Revised Management Plans for the following National Estuarine Research Reserves: ACE Basin, SC and Old Woman Creek, OH.

SUMMARY: Notice is hereby given that the Estuarine Reserves Division, Office of Ocean and Coastal Resource Management, National Ocean Service, National Oceanic and Atmospheric Administration (NOAA), U.S. Department of Commerce is announcing a thirty-day comment period for the revised management plans and boundary amendments of the ACE Basin, SC National Estuarine Research Reserve and Old Woman Creek, OH National Estuarine Research Reserve.

The revised management plan for the ACE Basin, SC National Estuarine Research Reserve outlines the administrative structure; the education, training, stewardship, and research programs of the reserve; and the plans for future land acquisition and facility development to support reserve operations. The objectives described in this plan address the most critical coastal issues in ACE Basin related to habitat conservation, water quality, community resilience, and public access. Since the last approved management plan in 1992, the reserve has become fully staffed; added a Coastal Training Program that delivers science-based information to key decisionmakers; and added significant monitoring of emergent marsh vegetation, water quality, and invasive species. In addition to programmatic and staffing advances, the reserve has constructed an interpretive center that houses educational exhibits, classrooms, offices, conference space, trails and dock with public access. A field station with lab facilities, research dock, and accommodations for visiting researchers has also been constructed.

This management plan amends the boundary to include 4,687 acres of the Botany Bay Plantation located adjacent to the northeastern corner of Edisto Island in lower Charleston County, SC. The undeveloped coastal habitats of the plantation include maritime forest, coastal shrub, wetlands, tidal marshes and sand beaches. The property provides important habitat for numerous wildlife species, including critical nesting habitat for the Federally threatened loggerhead sea turtle and the State threatened least tern. The lands contain significant cultural resources and list several sites on the National Register of Historic Places. This management plan amends the boundary by also removing 40,089 acres of private lands previously counted in error. In total, the ACE Basin Reserve includes 99,308 acres designated for long term research, education and stewardship. This plan can be accessed for review at http://www.dnr.sc.gov/marine/NERR/index.html.

The revised management plan for the Old Woman Creek, OH National Estuarine Research Reserve contains the collective vision, mission, goals, and objectives of the reserve; updates the reserve boundary; as well as outlines plans for facility use and development to support reserve operations. The objectives described in this plan address the most critical coastal issues of the reserve related to water quality (non-point source pollution), invasive species, habitat loss and regional ecosystem impacts of climate change. Since the last approved management plan in 2000, the reserve has become fully staffed; added a Coastal Training Program that delivers science-based information to key decisionmakers; and developed partnerships to continue to restore and protect land and waters in the Old Woman Creek watershed. In addition to programmatic and staffing advances, the reserve has completed construction of a new dormitory, boathouse, and administrative spaces.

This management plan includes a boundary expansion of 2.2 acres. This land was incorporated with the State nature preserve in 2004 and is subject to all protection afforded by Ohio laws governing State nature preserves. The additional parcel is adjacent to the reserve's southwestern boundary and consists of early successional habitat (e.g., various Cornus sp.) and will become an area dominated by mixed hardwoods. Incorporating these lands increases the size of the reserve to 573 acres. This plan can be accessed for review at: http://www.oldwomancreek.org.

FOR FURTHER INFORMATION CONTACT: Bree Murphy at (301) 563-1124 or Laurie McGilvray at (301) 563-1158 of NOAA's National Ocean Service, Estuarine Reserves Division, 1305 East-West Highway, N/ORM5, 10th floor, Silver Spring, MD 20910.

Dated: March 15, 2011.
Donna Wieting,
Director, Office of Ocean and Coastal Resource Management, National Oceanic and Atmospheric Administration.

[FR Doc. 2011-6901 Filed 3-23-11; 8:45 am]

BILLING CODE 3510-08-P